INTERNATIONAL TRADE COMMISSION

[Investigation No. 731-TA-101 (Second Review)]

Greige Polyester/Cotton Printcloth From China

Determination

On the basis of the record ¹ developed in the subject five-year review, the United States International Trade Commission (Commission) determines, pursuant to section 751(c) of the Tariff Act of 1930 (19 U.S.C. 1675(c)) (the Act), that revocation of the antidumping duty order on greige polyester/cotton printcloth from China would likely lead to continuation or recurrence of material injury to an industry in the United States within a reasonably foreseeable time.²

¹ The record is defined in sec. 207.2(f) of the Commission's Rules of Practice and Procedure (19 CFR 207.2(f)).

² Commissioner Miller did not participate in this review.

Background

The Commission instituted this review on March 1, 2004 (69 FR 9640) and determined on June 4, 2004 that it would conduct a full review (69 FR 33661, June 16, 2004). Notice of the scheduling of the Commission's second review and of a public hearing to be held in connection therewith was given by posting copies of the notice in the Office of the Secretary, U.S. International Trade Commission, Washington, DC, and by publishing the notice in the Federal Register on September 1, 2004 (69 FR 53465). The hearing was held in Washington, DC, on April 5, 2005, and all persons who requested the opportunity were permitted to appear in person or by counsel.

The Commission transmitted its determination in this review to the Secretary of Commerce on May 25, 2005. The views of the Commission are contained in USITC Publication 3776 (May 2005), entitled Greige Polyester/Cotton Printcloth from China: Investigation No. 731-TA-101 (Second Review).

Issued: May 26, 2005.
By order of the Commission.
Marilyn R. Abbott,
Secretary to the Commission.

[FR Doc. 05-10963 Filed 6-1-05; 8:45 am]

BILLING CODE 7020-02-P